DEPARTMENT OF ENERGY

Federal Energy Regulatory Commission

Combined Notice of Filings #1

Take notice that the Commission received the following electric rate filings:

Docket Numbers: ER10-2924-011; ER10-2480-010; ER10-2718-027; ER10-2719-026; ER10-2934-010; ER10-2950-010; ER10-2959-011; ER10-2961-011; ER10-3193-011; ER11-2041-012; ER11-2042-012; ER14-2498-006; ER14-2500-006; ER16-2462-005.

Applicants: Berkshire Power Company, LLC, Cogen Technologies Linden Venture, L.P., East Coast Power Linden Holding, L.L.C., Newark Energy Center, LLC, EIF Newark, LLC, Kleen Energy Systems, LLC, Chambers Cogeneration, Limited Partnership, Logan Generating Company, L.P., Spruance Genco, LLC, Edgecombe Genco, LLC, Brooklyn Navy Yard Cogeneration Partners, Innovative Energy Systems, LLC, Seneca Energy II, LLC, Oregon Clean Energy, LLC.

Description: Confirmation Letter to the June 29, 2016 MBR Triennial Filings of Kleen Energy Systems, LLC, et al.

Filed Date: 11/8/17.

Accession Number: 20171108-5082.

Comments Due: 5 p.m. ET 11/29/17.

Docket Numbers: ER14-649-005.

Applicants: Midcontinent Independent System Operator, Entergy Services, Inc.

Description: Report Filing: 2017-11-09_Revised Entergy Refund Report pursuant to Settlement to be effective N/A.

Filed Date: 11/9/17.

Accession Number: 20171109-5067.

Comments Due: 5 p.m. ET 11/30/17.

Docket Numbers: ER17-2457-001.

Applicants: Rock Creek Wind Project, LLC.

Description: Tariff Amendment: Rock Creek Wind Project, LLC MBR Tariff to be effective 9/15/2017.

Filed Date: 11/8/17.

Accession Number: 20171108-5160.

Comments Due: 5 p.m. ET 11/29/17.

Docket Numbers: ER18-105-001.

Applicants: 65HK 8me LLC.

Description: Tariff Amendment: 65HK 8me LLC Hayworth Shared Facilities Agreement to be effective 10/20/2017.

Filed Date: 11/8/17.

Accession Number: 20171108-5195.

Comments Due: 5 p.m. ET 11/29/17.

Docket Numbers: ER18-106-001.

Applicants: 87RL 8me LLC.

Description: Tariff Amendment: 87RL 8me LLC Woodmere SFA to be effective 10/20/2017.

Filed Date: 11/8/17.

Accession Number: 20171108-5198.

Comments Due: 5 p.m. ET 11/29/17.

Docket Numbers: ER18-107-001.

Applicants: 65HK 8me LLC.

Description: Tariff Amendment: 65HK 8me LLC Hayworth Co-Tenancy Agreement to be effective 10/20/2017.

Filed Date: 11/8/17.

Accession Number: 20171108-5196.

Comments Due: 5 p.m. ET 11/29/17.

Docket Numbers: ER18-108-001.

Applicants: 87RL 8me LLC.

Description: Tariff Amendment: 87RL 8me LLC Woodmere Co-Tenancy Agreement to be effective 10/20/2017.

Filed Date: 11/8/17.

Accession Number: 20171108-5197.

Comments Due: 5 p.m. ET 11/29/17.

Docket Numbers: ER18-268-000.

Applicants: Southern Partners, INC.

Description: Baseline eTariff Filing: Southern Partners, INC MBR Application to be effective 11/9/2017.

Filed Date: 11/9/17.

Accession Number: 20171109-5003.

Comments Due: 5 p.m. ET 11/30/17.

Docket Numbers: ER18-269-000.

Applicants: Southern California Edison Company.

Description: § 205(d) Rate Filing: LGIA SunPower Corporations, Systems—Rosamond South East Project to be effective 11/10/2017.

Filed Date: 11/9/17.

Accession Number: 20171109-5004.

Comments Due: 5 p.m. ET 11/30/17.

Docket Numbers: ER18-270-000.

Applicants: Southwestern Electric Power Company.

Description: § 205(d) Rate Filing: AECC Wedington Delivery Point Agreement to be effective 10/13/2017.

Filed Date: 11/9/17.

Accession Number: 20171109-5045.

Comments Due: 5 p.m. ET 11/30/17.

Docket Numbers: ER18-271-000.

Applicants: AEP Texas Inc.

Description: § 205(d) Rate Filing: AEP TX-Mozart Wind Interconnection Agreement First Amend & Restated to be effective 10/12/2017.

Filed Date: 11/9/17.

Accession Number: 20171109-5046.

Comments Due: 5 p.m. ET 11/30/17.

Docket Numbers: ER18-272-000.

Applicants: Southwest Power Pool, Inc.

Description: § 205(d) Rate Filing: 3375 WAPA & Basin Electric Power Interconnection Agr to be effective 10/25/2017.

Filed Date: 11/9/17.

Accession Number: 20171109-5064.

Comments Due: 5 p.m. ET 11/30/17.

Docket Numbers: ER18-273-000.

Applicants: Public Service Company of New Mexico.

Description: Initial rate filing: Executed 38 MW Transmission Service Agreement between PNM and El Cabo Wind, LLC to be effective 10/31/2017.

Filed Date: 11/9/17.

Accession Number: 20171109-5069.

Comments Due: 5 p.m. ET 11/30/17.

Docket Numbers: ER18-274-000.

Applicants: Public Service Company of New Mexico.

Description: Initial rate filing: Executed 170 MW Transmission Service Agreement between PNM and El Cabo Wind, LLC to be effective 10/31/2017.

Filed Date: 11/9/17.

Accession Number: 20171109-5070.

Comments Due: 5 p.m. ET 11/30/17.

Docket Numbers: ER18-275-000.

Applicants: Alabama Power Company.

Description: § 205(d) Rate Filing: Tri-State II Solar Project LGIA Filing to be effective 10/30/2017.

Filed Date: 11/9/17.

Accession Number: 20171109-5082.

Comments Due: 5 p.m. ET 11/30/17.

Docket Numbers: ER18-276-000.

Applicants: Panda Hummel Station LLC.

Description: Baseline eTariff Filing: FERC Electric Tariff, Volume No. 1 (market-based rate application) to be effective 1/9/2018.

Filed Date: 11/9/17.

Accession Number: 20171109-5094.

Comments Due: 5 p.m. ET 11/30/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2017.
Nathaniel J. Davis, Sr.,
Deputy Secretary.

[FR Doc. 2017-24795 Filed 11-15-17; 8:45 am]

BILLING CODE 6717-01-P